DEPARTMENT OF HEALTH AND HUMAN SERVICES

National Institutes of Health

National Institute of Environmental Health Sciences; Amended Notice of Meeting

Notice is hereby given of a change in the meeting of the Board of Scientific Counselors, NIEHS, March 20, 2011, 7 p.m. to March 22, 2011, 12:30 p.m., Doubletree Guest Suites, 2515 Meridian Parkway, Research Triangle Park, NC, 27713 which was published in the Federal Register on February 23, 2011, 76 FR 36.

This Federal Register Notice has been amended to change the meeting date. The meeting will be held Sunday, May 22, 2011 at 7 p.m. through Tuesday, May 24, 2011 at 12:30 p.m. The meeting is partially Closed to the public.

Dated: April 12, 2011.
Jennifer S. Spaeth,
Director, Office of Federal Advisory Committee Policy.

[FR Doc. 2011-9492 Filed 4-19-11; 8:45 am]

BILLING CODE 4140-01-P